ENVIRONMENTAL PROTECTION AGENCY

40 CFR Part 52

[EPA-R03-OAR-2014-0886; FRL-9924-01-Region 3]

Approval and Promulgation of Air Quality Implementation Plans; Pennsylvania; Revision to Allegheny County Regulations for Establishing Permit Fees

AGENCY: Environmental Protection Agency (EPA).

ACTION: Proposed rule.

SUMMARY: EPA is proposing to approve a State Implementation Plan (SIP) revision submitted by the Pennsylvania Department of Environmental Protection (PADEP) on August 30, 2010. This revision pertains to the Air Pollution Control portion of the Allegheny County Health Department (ACHD) Rules and Regulations, and consists of changes to the regulations establishing installation permit application and administration fees, as well as open burning permit application fees. This action is being taken under the Clean Air Act (CAA).

DATES: Written comments must be received on or before April 8, 2015.

ADDRESSES: Submit your comments, identified by Docket ID Number EPA-R03-OAR-2014-0886 by one of the following methods:

A. www.regulations.gov. Follow the on-line instructions for submitting comments.

B. Email: campbell.dave@epa.gov.

C. Mail: EPA-R03-OAR-2014-0886, David J. Campbell, Associate Director, Office of Permits and Air Toxics, Mailcode 3AP10, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2014-0886. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form.

Publicly available docket materials are available either electronically in www.regulations.gov or in hard copy during normal business hours at the Air Protection Division, U.S. Environmental Protection Agency, Region III, 1650 Arch Street, Philadelphia, Pennsylvania 19103. Copies of the Commonwealth submittal are available at the Pennsylvania Department of Environmental Protection, Bureau of Air Quality Control, P.O. Box 8468, 400 Market Street, Harrisburg, Pennsylvania 17105; and the Allegheny County Health Department, Bureau of Environmental Quality, Division of Air Quality, 301 39th Street, Pittsburgh, Pennsylvania 15201.

FOR FURTHER INFORMATION CONTACT: Paul T. Wentworth, P.E. at: (215) 814-2183, or by email at wentworth.paul@epa.gov.

SUPPLEMENTARY INFORMATION:

I. Background

On August 23, 2010 the Pennsylvania Department of Environmental Protection (PADEP) submitted a revision to the Allegheny County portion of the Pennsylvania State Implementation Plan. This SIP submission contains revisions to ACHD's regulations under Article XXI section 2102.10, entitled “Installation Permit Application and Administration Fees”; and section 2105.50, entitled “Open Burning and Administration Fees.”

II. Summary of SIP Revision

The revisions to sections 2102.10 and 2105.50 under Article XXI consist of: (1) Deleting the fixed monetary amounts for permit fees provided for in both sections; (2) adding language in both sections stating that the amount of the given fee shall be set by the Board of Health, and approved by Allegheny County Council; and 3) adding language in section 2102.10 establishing fees by factoring in the degree of technical and regulatory difficulty in establishing fees for each category of installation permit. These categories include: (1) Any source requiring a Prevention of Significant Deterioration (PSD) permit; (2) an installation permit for a source for which ACHD is required to establish a maximum achievable control technology (MACT) standard for such source; (3) any source requiring an installation permit and subject to section 2102.06 involving new major sources and major modifications locating in or impacting a non-attainment area; (4) any source requiring an installation permit and subject to existing standards, such as: the New Source Performance Standards (NSPS), the National Emission Standards for Hazardous Air Pollutants (NESHAP) or the MACT standard; (5) any source requiring an installation permit but not subject to any of the previous requirements; and (6) for all applications to use general installation permits.

III. Proposed Action

EPA review of this material submitted on August 30, 2010 determined that the rule changes have gone through the appropriate state procedures and that the revised regulations satisfy the requirements laid out in the CAA at section 110(a)(2)(L)(i) and (ii) which requires SIPs to include fees sufficient to cover the reasonable costs of reviewing and acting upon any application for a permit required by the CAA, and (if the owner or operator receives a permit for such source) the reasonable costs of implementing and enforcing the terms and conditions of any such permit. Therefore EPA is proposing to approve this PADEP SIP revision containing revisions to the installation permit application and administration fees and open burning and administration fees requirements under ACHD Rules and Regulations, Article XXI.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, EPA's proposal to approve changes to ACHD regulations pertaining to establishing installation permit application and administration fees does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Carbon monoxide, Incorporation by reference Intergovernmental relations, Lead, Nitrogen dioxide, Ozone, Particulate matter, Reporting and recordkeeping requirements, Sulfur oxides, Volatile organic compounds.

Authority: 42 U.S.C. 7401 et seq.

Dated: February 11, 2015.
William Early,
Acting, Regional Administrator, Region III.

[FR Doc. 2015-05335 Filed 3-6-15; 8:45 am]

BILLING CODE 6560-50-P